Title 3—

The President

Memorandum of February 7, 2011

Annual Update to the Report Specified in Section 1251 of the National Defense Authorization Act for Fiscal Year 2010 (Public Law 111-84)

Memorandum for the Secretary of Defense [and] the Secretary of Energy

By the authority vested in me as President by the Constitution and the laws of the United States of America, I hereby direct the Secretaries of Defense and Energy to jointly provide annual updates to the report specified in section 1251 of the National Defense Authorization Act for Fiscal Year 2010 (Public Law 111-84) (the “1251 Report”). I further authorize and direct the Secretaries of Defense and Energy to jointly submit this annual update to the 1251 Report concurrently with the President's budget each year, beginning in calendar year 2011.

The Secretary of Defense is authorized and directed to publish this memorandum in the Federal Register.

THE WHITE HOUSE,

Washington, February 7, 2011.

[FR Doc. 2011-3053

Filed 2-8-11; 11:15 am]

Billing code 5000-04-P